DEPARTMENT OF AGRICULTURE

Forest Service

Okanogan and Wenatchee National Forests Resource Advisory Committee

AGENCY: Forest Service, USDA.

ACTION: Notice of meeting.

SUMMARY: The Okanogan and Wenatchee National Forests Resource Advisory Committee will meet on Tuesday, June 10, 2003, at the Red Lion Hotel, 1225 North Wenatchee Avenue, Wenatchee, Washington. The meeting will begin at 9 a.m. and continue until 3 p.m. Committee members will review Chelan County projects proposed for Resource Advisory Committee consideration under Title II of the Secure Rural Schools and Community Self-Determination Act of 2000. All Okanogan and Wenatchee National Forests Resource Advisory Committee meetings are open to the public. Interested citizens are welcome to attend.

FOR FURTHER INFORMATION CONTACT: Direct questions regarding this meeting to Paul Hart, Designated Federal Official, USDA, Wenatchee National Forest, 215 Melody Lane, Wenatchee, Washington 98801, 509-662-4335.

Dated: April 30, 2003.
Darrel L. Kenops,
Acting Forest Supervisor, Okanogan and Wenatchee National Forests.

[FR Doc. 03-11260 Filed 5-6-03; 8:45 am]

BILLING CODE 3410-11-M